ENVIRONMENTAL PROTECTION AGENCY

[FRL-8914-4]

Cross-Media Electronic Reporting Rule State Authorized Program Revision Approval: State of Utah

AGENCY: Environmental Protection Agency (EPA).

ACTION: Notice.

SUMMARY: This notice announces EPA's approval, under regulations for Cross-Media Electronic Reporting, of the State of Utah's request to revise certain of their EPA-authorized programs to allow electronic reporting.

DATES: EPA's approval is effective June 8, 2009.

FOR FURTHER INFORMATION CONTACT: Evi Huffer, U.S. Environmental Protection Agency, Office of Environmental Information, Mail Stop 2823T, 1200 Pennsylvania Avenue, NW., Washington, DC 20460, (202) 566-1697, huffer.evi@epa.gov, or David Schwarz, U.S. Environmental Protection Agency, Office of Environmental Information, Mail Stop 2823T, 1200 Pennsylvania Avenue, NW., Washington, DC 20460, (202) 566-1704, schwarz.david@epa.gov.

SUPPLEMENTARY INFORMATION: On October 13, 2005, the final Cross-Media Electronic Reporting Rule (CROMERR) was published in the Federal Register (70 FR 59848) and codified as Part 3 of title 40 of the CFR. CROMERR establishes electronic reporting as an acceptable regulatory alternative to paper reporting and establishes requirements to assure that electronic documents are as legally dependable as their paper counterparts. Under Subpart D of CROMERR, state, tribal or local government agencies that receive, or wish to begin receiving, electronic reports under their EPA-authorized programs must apply to EPA for a revision or modification of those programs and get EPA approval. Subpart D provides standards for such approvals based on consideration of the electronic document receiving systems that the state, tribe, or local government will use to implement the electronic reporting. Additionally, in § 3.1000(b) through (e) of 40 CFR Part 3, Subpart D provides special procedures for program revisions and modifications to allow electronic reporting, to be used at the option of the state, tribe or local government in place of procedures available under existing program-specific authorization regulations. An application submitted under the Subpart D procedures must show that the state, tribe or local government has sufficient legal authority to implement the electronic reporting components of the programs covered by the application and will use electronic document receiving systems that meet the applicable Subpart D requirements.

On December 23, 2008, the State of Utah Department of Environmental Quality (UTDEQ) submitted an application for their Net Discharge Monitoring Report (NetDMR) electronic document receiving system application for revision of their EPA-authorized 40 CFR Part 123—NPDES State Program Requirements.

EPA has reviewed UTDEQ's request to revise their EPA-authorized program and, based on this review, EPA has determined that the application for the program identified in this Notice meet the standards for approval of authorized program revisions/modifications set out in 40 CFR part 3, subpart D. In accordance with 40 CFR 3.1000(d), this notice of EPA's decision to approve UTDEQ's request for revision to their authorized program is being published in the Federal Register. Specifically, EPA has approved Utah's request for revision to their 40 CFR Part 123—NPDES State Program Requirements authorized program for electronic reporting of discharge monitoring report information.

UTDEQ was notified of EPA's determination to approve its application with respect to the authorized program listed above in a letter dated May 28, 2009.

Dated: May 28, 2009.
Lisa Schlosser,
Director, Office of Information Collection.

[FR Doc. E9-13324 Filed 6-5-09; 8:45 am]

BILLING CODE 6560-50-P